DEPARTMENT OF THE INTERIOR

Office of the Secretary

Invasive Species Advisory Committee

AGENCY: Office of the Secretary, Interior.

ACTION: Notice of public meetings of the Invasive Species Advisory Committee.

SUMMARY: Pursuant to the provisions of the Federal Advisory Committee Act, notice is hereby given of meetings of the Invasive Species Advisory Committee. The purpose of the Advisory Committee is to provide advice to the National Invasive Species Council, as authorized by Executive Order 13112, on a broad array of issues related to preventing the introduction of invasive species and providing for their control and minimizing the economic, ecological, and human health impacts that invasive species cause. The Council is Co-chaired by the Secretary of the Interior, the Secretary of Agriculture, and the Secretary of Commerce. The duty of the Council is to provide national leadership regarding invasive species issues. The purpose of a meeting on October 13-15, 2004, is to convene the full Advisory Committee; and to discuss implementation of action items outlined in the National Invasive Species Management Plan, which was finalized on January 18, 2001.

DATES: Meeting of Invasive Species Advisory Committee: 8 a.m., Wednesday, October 13, 2004 (ISAC Orientation); 8:30 a.m., Thursday, October 14, 2004; and 8 a.m., Friday, October 15, 2004 (Actual Meeting).

ADDRESSES: National Conservation Training Center, 968 Conservation Way, Shepherdstown, WV 25443. Both the orientation and actual meeting will be held in Room 170—Instructional West Building.

FOR FURTHER INFORMATION CONTACT: Kelsey Brantley, National Invasive Species Council Program Analyst; Phone: (202) 513-7243; Fax: (202) 371-1751.

Dated: September 14, 2004.
Lori Williams,
Executive Director, National Invasive Species Council.

[FR Doc. 04-21003 Filed 9-16-04; 8:45 am]

BILLING CODE 4310-RK-P